DEPARTMENT OF AGRICULTURE

Forest Service

North Fork Eel Grazing Allotments EIS—Six Rivers National Forest

AGENCY: Forest Service, USDA.

ACTION: Revised notice of intent to prepare an environmental impact statement.

SUMMARY: This notice revises the original notice of intent (67FR68089) published in the Federal Register on November 8, 2002. The Six Rivers National Forest will prepare an environmental impact statement (EIS) on a proposal to: (1) Authorize grazing up to 10 years, under changed seasons of use and grazing practices, of about 500 Cow/Calf Pairs on the Hoaglin, Zenia, Long Ridge, and Van Horn cattle allotments encompassing about 116,000 acres of National Forest System (NFS) lands; and (2) amend the Six Rivers National Forest Land and Resources Management Plan (LRMP) to close the vacant Soldier Creek Allotment encompassing about 10,000 acres of NFS lands.

The analysis area is located predominantly within the North Fork Eel River Watershed and includes all or portions of the following townships: T2SR6E, T2SR7E, T3SR6E, T3SR7E, T3SR8E, T4SR6E, T4S7E, T4SR8E, T5SR6E, T5SR7E, Humboldt. Meridian; T25NR12W, T26NR12W, Mount Diablo Meridian; Trinity County, California.

The proposal is designed to meet the following needs: (1) Continued livestock grazing in the currently active allotments; (2) achievement of soil compaction and bank stability standards as stated in the LRMP; (3) achievement of forage utilization standards in riparian areas and annual grasslands as stated in the LRMP; and (4) meeting the management goals for the Soldier Basin Recommended Research Natural Area (RRNA) as directed in the LRMP. The EIS will satisfy the requirements of the National Environmental Policy Act of 1969 and implementing regulations (40 CFR 1500).

DATES: Comments concerning the proposed action must be received on or before 14 days after publication of this notice in the Federal Register. The draft EIS is expected to be published in October 2003 and the final EIS is expected in February 2004.

ADDRESSES: Send written comments to S.E. ”Lou” Woltering, Forest Supervisor, Six Rivers National Forest, 1330 Bayshore Way, Eureka, CA 95501-3834. Comments may be mailed electronically to rescatell@fs.fed.us.

FOR FURTHER INFORMATION CONTACT: Ruben Escatell or Clara Cross EIS Team Leaders, Mad River Ranger District, Star Route Box 300, Bridgeville, CA 95526. Phone (707) 574-6233. E-mail rescatell@fs.fed.us.

SUPPLEMENTARY INFORMATION:

Purpose and Need for Action

The Six Rivers National Forest has determined the following needs concerning the Van Horn, Long Ridge, Hoaglin, Zenia and Soldier Creek Allotments: (1) Continued livestock grazing under updated allotment Management Plans on the Van Horn, Long Ridge, Hoaglin, and Zenia allotments; (2) achievement of soil compaction and bank stability standards and guidelines as stated in the LRMP; (3) achievement of forge utilization standards in riparian areas and annual grasslands as stated in the LRMP; and (4) meeting the management goals, as directed in the LRMP, for the Soldier Basin Recommended Research Natural Area (RRNA) which is located in the Soldier Creek Allotment. In achieving the aforementioned needs the following purposes will be met: (1) fulfill a trust responsibility to the Round Valley Indian Tribes to manage grazing activities so as to not adversely impact tribal trust properties and rights down river of the allotments, namely water quality and anadromous fish; (2) minimize impacts to anadromous fisheries along the North Fork Eel River system; (3) redistribute cattle away from identified heritage sites; (4) maintain the permitees' ability to graze livestock efficiently and economically, and (5) maintain rangeland productivity on suitable rangelands while providing forage for livestock production consistent with demand and other resource values and uses.

Proposed Action

The Forest Service proposes to (1) authorize grazing up to 10 years, under changed seasons of use and grazing practices, of about 500 Cow/Calf Pairs on the Hoaglin, Zenia, Long Ridge and Van Horn Allotments encompassing about 116,00 acres of National Forest System (NFS) lands; and (2) amend the Six Rivers National Forest Land and Resource Management Plan (LRMP) to close the currently vacant Soldier Creek allotment encompassing about 10,000 acres of NFS lands. The proposed action includes change to Allotment Management Plans that address grazing practices, construction of new range improvements, restoration and/or removal of existing range improvements, allotment boundary modifications, and monitoring provisions. Closure of the Soldier Creek allotment would constitute a Forest Plan amendment. A detailed description of the proposed action can be obtained by contacting Ruben Escatell at the address listed above.

Responsible Official

S.E. “Lou” Woltering, Forest Supervisor, Six Rivers National Forest, USDA Forest Service, 1330 Bayshore Way, Eureka, CA 95501-3834, is the Responsible Official for any decision to authorize grazing, manage rangelands, or close any allotment on affected National Forest System lands within the Six Rivers National Forest. His decisions and rationale will be documented in a Record of Decision.

Nature of Decision To Be Made

The Forest Supervisory will make the following decisions: Whether or not to authorize cattle grazing in allotments considered in this analysis and, if so, the terms and conditions required for the term grazing permits and AMPs; and, whether or not to close the Soldier Creek Allotment, thereby removing its rangeland from the LRMP suitable forage base.

Scoping Process

Scoping is the procedure by which the Forest Service identifies important issues and determines the extent of analysis necessary for an informed decision on a proposed action. The public is encouraged to comment on this proposal and is encouraged to visit with Forest Service Officials at any time during the analysis and prior to the decision. The Forest Service will be seeking information, comments and assistance from Federal, State and local agencies and other individuals or organizations who may be interested in, or affected by, the proposed action. While public participation in this analysis welcome at any time, comments received within 14 days of the publication of this notice will be especially useful in the preparation of the Draft EIS

Early Notice of Importance of Pubic Participation in Subsequent Environmental Review

A draft environmental impact statement will be prepared for comment. The comment period on the draft environmental impact statement will be 45 days from the date the Environmental Protection Agency publishes the notice of availability in the Federal Register.

The Forest Service believes, at this early stage, it is important to give reviewers notice of service court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. supp. 1344, 1338 (E.D. Wis. 1980). Because of these court rulings, it is very important that those interested in this proposed action participate by the close of the 45-day comment period so that substantive comments and objections re made available to the Forest Service at a time when it can meaningfully consider them and respond to them in the final environmental impact statement.

To assist the Forest Service in identifying and considering issues and concerns on the proposed action, comments on the draft EIS should be as specific as possible. It is also helpful if comments refer to specific pages or chapters of the draft statement. Comments may also address the adequacy of the draft environmental impact statement or the merits of the alternatives formulated and discussed in the statement.

Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: July 30, 2003.
William D. Metz,
Deputy Forest Supervisor, Six Rivers National Forest.

[FR Doc. 03-19838 Filed 8-4-03; 8:45 am]

BILLING CODE 3410-11-M